DEPARTMENT OF TRANSPORTATION

Federal Aviation Administration

RTCA Special Committee 187; Mode Select Beacon and Data Link System

Pursuant to section 10(a)(2) of the Federal Advisory Committee Act (Pub. L. 92-463, 5 U.S.C., appendix 2), notice is hereby given for Special Committee (SC)—187 meeting to be held March 1, 2001, starting at 9:00 a.m. The meeting will held RTCA Inc., 1140 Connecticut Ave., NW., Suite 1020, Washington, DC 20036.

The agenda will include: (1) Welcome and Introductory Remarks; (2) Review Meeting Agenda; (3) Review and Approve proposed changes to RTCA/DO-181B, RTCA Paper No. 020-01/SC187-036; (4) Review and Approve Changes to RTCA/DO-218A, RTCA Paper No. 021-01/SC187-037; (5) Other Business; (6) Date and Location of Next Meeting; (7) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on January 26, 2001.
Janice L. Peters,
Designated Official.

[FR Doc. 01-2792 Filed 2-1-01; 8:45 am]

BILLING CODE 4910-13-M